DEPARTMENT OF TRANSPORTATION

Federal Aviation Administration

Notice of Intent To Request Revision From the Office of Management and Budget of a Currently Approved Information Collection Activity, Request for Comments; Part 121 Pilot Age Limit

AGENCY: Federal Aviation Administration (FAA), DOT.

ACTION: Notice and request for comments.

SUMMARY: The FAA invites public comments about our intention to request the Office of Management and Budget (OMB) to approve a current information collection. The FAA is proposing to raise the upper age limit for pilots serving in domestic, flag, and supplemental operations until they reach their 65th birthday as long as the other pilot at the controls is under age 60. Affected pilots would have to apply for medical examination twice a year to maintain a first-class medical certificate instead of once a year to maintain a second-class medical certificate.

DATES: Please submit comments by August 31, 2009.

FOR FURTHER INFORMATION CONTACT: Carla Mauney on (202) 267-9895, or by e-mail at: Carla.Mauney@faa.gov.

SUPPLEMENTARY INFORMATION:

Federal Aviation Administration (FAA)

Title: Part 121 Pilot Age Limit.

Type of Request: New collection.

OMB Control Number: 2120-XXXX.

Forms(s): There are no FAA forms associated with this collection.

Affected Public: A total of 15,649 Respondents.

Frequency: The information is collected semi-annually.

Estimated Average Burden Per Response: Approximately 15 minutes per response.

Estimated Annual Burden Hours: An estimated 3,912 hours annually.

Abstract: The FAA is proposing to raise the upper age limit for pilots serving in domestic, flag, and supplemental operations until they reach their 65th birthday as long as the other pilot at the controls is under age 60. This action would impose new paperwork requirements. Under this proposal, all pilots over age 60 serving in part 121 operations would have to hold a first-class medical certificate, valid for 6 months and would require a line check (evaluation) every six months. Although it is projected that most older pilots serving in part 121 operations hold a first-class medical certificate, some pilots may not since they may serve as co-pilot and hold a commercial pilot certificate which requires a second-class medical certificate, valid for 12 months. Affected pilots would have to apply for medical examination twice a year to maintain a first-class medical certificate instead of once a year to maintain a second-class medical certificate.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility: The accuracy of the Department's estimates of the burden of the proposed information collection; ways to enhance the quality, utility and clarity of the information to be collected: and ways to minimize the burden of the collection of information on respondents, including the use of automated collection techniques or other forms of information technology.

Issued in Washington, DC, on June 24, 2009.
Carla Mauney,
FAA Information Collection Clearance Officer, IT Enterprises Business Services Division, AES-200.

[FR Doc. E9-15521 Filed 7-1-09; 8:45 am]

BILLING CODE 4910-13-M